SECURITIES AND EXCHANGE COMMISSION

Submission for OMB Review; Comment Request

Upon Written Request, Copies Available From: Securities and Exchange Commission, Office of Filings and Information Services, Washington, DC 20549.

Extension:

Rule 29; SEC File No. 270-169; OMB Control No. 3235-0149

Rule 83; SEC File No. 270-82; OMB Control No. 3235-0181

Notice is hereby given that, pursuant to the Paperwork Reduction Act of 1995 (44 U.S.C. 3501 et seq.), the Securities and Exchange Commission (“Commission”) has submitted to the Office of Management and Budget requests for extension of the previously approved collections of information discussed below.

Rules 29, Filing of Reports to State Commissions, concerns reports to state commissions by registered holding companies and their subsidiaries. The rule requires that a copy of each annual report submitted by any registered holding company or any of its subsidiaries to a state commission covering operations not reported to the Federal Energy Regulatory Commission be filed with the Securities and Exchange Commission no later than ten days after such submission.

The information collected under Rule 29 permits the Commission to remain current on developments that are reported to state commissions, but that might not be reported to the Commission otherwise. This information is beneficial to the liaison the Commission maintains with state governments and also is useful in the preparation of annual reports to the U.S. Congress under Section 23 of the Public Utility Holding Company Act of 1935.

The title of Rule 83 is Exemption In the Case of Transactions with Foreign Associates. It authorizes exemption from the at cost standard of section 13(b) of the Public Utility Holding Company Act of 1935 for services provided to associated foreign utility companies.

Rule 83 requires a registered holding company system that wishes to avail itself of this exemption from Section 13(b) to submit an application, in the form of a declaration, to the Commission. The Commission will grant the application if, by reason of the lack of any major interest of holders of securities offered in the United States in servicing arrangements affecting such serviced subsidiaries, such an application for exemption is necessary or appropriate in the public interest or for the protection of investors.

Rules 29 and 83 do not create a recordkeeping or retention burden on respondents. These rules do, however, contain reporting and filing requirements. Rule 29 imposes a reporting burden of about .25 hours for each of sixty-two respondents, each of which makes one submission annually. The total annual burden is fifteen and one-half hours. Rule 29 imposes no cost burdens.

The filing requirement of Rule 29 is mandatory. Responses will not be kept confidential. The filing requirement of Rule 83 is necessary to obtain a benefit. Responses will not be kept confidential.

Since the Commission has received no applications under Rule 83 recently, it is estimated the burden of Rule 83 as zero.

These estimates of average burden hours are made solely for the purposes of the Paperwork Reduction Act and are not derived from a comprehensive or even a representative survey or study of the costs of SEC rules and forms.

An agency may not conduct or sponsor, and a person is not required to respond to, a collection of information unless it displays a currently valid control number.

General comments regarding the above information should be directed to the following persons: (i) Desk Officer for the Securities and Exchange Commission, Office of Information and Regulatory Affairs, Office of Management and Budget, New Executive Office Building, Washington, DC 20503; and (ii) Michael E. Bartell, Associate Executive Director, Office of Information Technology, Securities and Exchange Commission, 450 Fifth Street, N.W., Washington, DC 25049. Comments must be submitted to OMB within 30 days of this notice.

Dated: January 8, 2001.
Margaret H. McFarland,
Deputy Secretary.

[FR Doc. 01-2811 Filed 2-1-01; 8:45 am]

BILLING CODE 8010-01-M